DEPARTMENT OF COMMERCE

National Oceanic and Atmospheric Administration

[I.D. 081500CM]

Nominations for Federal Advisory Committee on Marine Protected Areas

AGENCY: National Oceanic and Atmospheric Administration (NOAA), Commerce.

ACTION: Notice of request for nominations.

SUMMARY: The Department of Commerce is establishing a Federal Advisory Committee on Marine Protected Areas (MPA) pursuant to Executive Order 13158 and is seeking nominations for membership on this Committee.

DATES: Nominations must be postmarked on or before October 2, 2000.

ADDRESSES: Nominations should be sent to Office of Policy and Strategic Planning, NOAA, 14th and Constitution Avenue, NW, Room 6117, Washington, DC 20230 ATTN: Federal Advisory Committee on Marine Protected Areas.

FOR FURTHER INFORMATION CONTACT: Anne Marie Goldsmith, NOAA, (202) 482-2160. E-mail: Anne.Marie.Goldsmith@noaa.gov.

SUPPLEMENTARY INFORMATION: In Executive Order 13158, the Department of Commerce and the Department of the Interior were directed to seek the expert advice and recommendations of non-Federal scientists, resource managers, and other interested persons and organizations through a Marine Protected Areas Federal Advisory Committee. The Advisory Committee will provide advice and recommendations to the Secretary of Commerce and the Secretary of the Interior in implementing Section 4 of the Executive Order, and specifically on strategies and priorities for developing a national system of MPAs and on practical approaches to further enhance and expand protection of new and existing MPAs.

Initial committee members will be selected for two or three year terms of service. The Committee will meet at least once annually; however, members of subcommittees, task forces, and/or working groups established by the Committee may meet on a more frequent basis. Members of the Committee will not be compensated, but may upon request, be allowed travel and per diem expenses.

The Department of Commerce is seeking approximately 30 highly qualified individuals to serve on the Marine Protected Areas Federal Advisory Committee. Nominations are sought for non-Federal scientists, resource managers, and persons representing other interests or organizations involved with or affected by marine conservation. Individuals seeking membership on the Advisory Committee should possess demonstrable expertise in a related field or represent a stakeholder interest affected by MPAs. Nominees will also be evaluated based on the following factors: marine policy experience, leadership and organizational skills, region of country represented, and diversity characteristics.

Nominations are encouraged from all interested parties, such as scientific societies; academic and research institutions; groups or governments representing Native Americans, Alaska Natives, Native Hawaiians, Carribean Islanders and Pacific Islanders; states, territories and localities; interest groups such as the fishing (recreational and commercial), boating, diving, recreational, maritime, historical and philanthropic communities; conservation organizations; and Federal agencies. (NOTE: No Federal agency employees may be appointed to serve on the Committee, but nominations for non-federal employees will be accepted from Federal agencies).

Each submission should include the submitting person's or organization's name and affiliation, a cover letter describing the nominee's qualifications and interest in serving on the Committee, a curriculum vitae or resume of nominee, and no more than three supporting letter(s) describing the qualifications of the nominee. Self nominations are acceptable. The following contact information should accompany each nominee's submission: name, address, phone number, fax number, and e-mail address.

Nominations should be sent to (see ADDRESSES) and nominations must be received by (see DATES). The full text of the executive order can be found at the following address: www.mpa.gov.

Dated: August 11, 2000.
D. James Baker,
Under Secretary for Oceans and Atmosphere, National Oceanic and Atmospheric Administration, Department of Commerce.

[FR Doc. 00-21101 Filed 8-17-00; 8:45 am]

Billing Code: 3510-12 -S